DEPARTMENT OF TRANSPORTATION

National Highway Traffic Safety Administration

[Docket No. NHTSA-2011-0063; Notice 1]

Jaguar Land Rover North America, LLC, on Behalf of Jaguar Cars Limited, Receipt of Petition for Decision of Inconsequential Noncompliance

AGENCY: National Highway Traffic Safety Administration, DOT.

ACTION: Receipt of Petition for Inconsequential Noncompliance.

SUMMARY: Jaguar Land Rover North America, LLC,¹ on behalf of Jaguar Cars Limited ² (collectively referred to as “Jaguar”) has determined that model year 2010 and certain 2011 Jaguar XJ passenger cars manufactured between September 11, 2009 and March 28, 2011, do not fully comply with paragraphs S5.2.1 and S5.5.2 of Federal Motor Vehicle Safety Standard (FMVSS) No. 101,³ Controls and displays. Jaguar has filed an appropriate report pursuant to 49 CFR part 573, Defect and Noncompliance Responsibility and Reports (dated April 15, 2011).

¹ Jaguar Land Rover North America, LLC manufactures and imports motor vehicles and is registered under the laws of the state of New Jersey.

² Jaguar Cars Limited, manufactures motor vehicles and is organized under the laws of the United Kingdom.

³ NHTSA notes that the noncompliances identified by Jaguar in its petition are also noncompliances to identical requirements in FMVSS No. 135, Hydraulic Brakes.

Pursuant to 49 U.S.C. 30118(d) and 30120(h) (see implementing rule at 49 CFR part 556), Jaguar has petitioned for an exemption from the notification and remedy requirements of 49 U.S.C. Chapter 301 on the basis that this noncompliance is inconsequential to motor vehicle safety.

This notice of receipt of Jaguar's petition is published under 49 U.S.C. 30118 and 30120 and does not represent any agency decision or other exercise of judgment concerning the merits of the petition.

Affected are approximately 8621 model year 2010 and 2011 Jaguar XJ passenger cars that were manufactured at Jaguar's Castle Bromwich assembly plant between September 11, 2009 and March 28, 2011.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the 8621 ⁴ model year 2011 Jaguar XJ passenger cars that Jaguar no longer controlled at the time it determined that the noncompliance existed.

⁴ Jaguar's petition, which was filed under 49 CFR part 556, requests an agency decision to exempt Jaguar as a vehicle manufacturer from the notification and recall responsibilities of 49 CFR part 573 for 8621 of the affected vehicles. However, the agency cannot relieve vehicle distributors and dealers of the prohibitions on the sale, offer for sale, introduction or delivery for introduction into interstate commerce of the noncompliant vehicles under their control after Jaguar notified them that the subject noncompliance existed. Those vehicles must be brought into conformance, exported, or destroyed.

Paragraphs S5.2.1 and S5.5.2 of FMVSS No. 101 require in pertinent part:

S5.2.1 Except for the Low Tire Pressure Telltale, each control, telltale and indicator that is listed in column 1 of Table 1 or Table 2 must be identified by the symbol specified for it in column 2 or the word or abbreviation specified for it in column 3 of Table 1 or Table 2. If a symbol is used, each symbol provided pursuant to this paragraph must be substantially similar in form to the symbol as it appears in Table 1 or Table 2. If a symbol is used, each symbol provided pursuant to this paragraph must have the proportional dimensional characteristics of the symbol as it appears in Table 1 or Table * * *

S5.5.2 The telltales for any brake system malfunction required by Table 1 to be red, air bag malfunction, low tire pressure, electronic stability control malfunction (as of September 1, 2011), passenger air bag off, high beam, turn signal, and seat belt must not be shown in the same common space.

Jaguar explains that the noncompliance is that the telltales used for Brake Warning, Park Brake Warning and Antilock Braking System (ABS) failure warnings are displayed using International Organization for Standardization (ISO) symbols instead of the telltale symbols required by FMVSS No. 101.

Jaguar stated its belief that although the instrument cluster telltales are marked with ISO symbols, the noncompliance is inconsequential to motor vehicle safety for the following reasons:

(1) The functionality of all primary braking systems is not affected by this noncompliance and the vehicle will operate as intended.

(2) The owner's manual shows clearly the ISO warning symbols that may be displayed along with the FMVSS No. 101 compliant equivalents. Further, the owner's manual instructions on required actions to take in the event of a warning being displayed are the same for each telltale regardless of it being marked with an ISO symbol or with it's FMVSS No. 101 compliant equivalent.

(3) The colors of the telltales adhere to a common color scheme and are consistent between ISO and FMVSS requirements. The Owner's manual provides the following guidance to the driver:

a. RED warning lamps are for primary warnings. A primary warning must be investigated immediately by the driver or seek qualified assistance as soon as possible.

b. AMBER warning lamps are for secondary warnings. Some indicate that a vehicle system is in operation, others indicate that the driver must take action and then seek qualified assistance as soon as possible.

(4) The driver will receive ISO symbol based warnings of any affected system malfunction. These warnings, although displaying telltales marked with ISO symbols, are augmented with a message center text providing further details as to the nature of the warning symbol:

a. If low brake fluid is detected or an Electronic Brakeforce Distribution (EBD) fault identified, the ISO Brake Warning Symbol and the words “Brake Fluid Low” or “EBD Fault” will be displayed in the message center.

b. If the park brake is applied, the ISO Parking Brake symbol will be displayed. If the vehicle is moving in excess of 1.8 mph, the message displayed in the message center is “Caution! Park Brake Applied” and a continuous chime will sound.

c. If an antilock brake system (ABS) malfunction is detected, the ISO ABS symbol illuminates display a message in the message center stating “ABS Fault”.

(5) Jaguar is not aware of any incidents or injuries related to this condition.

Jaguar also explains that all unsold vehicles in the dealer stock will have the instrument cluster software configuration file settings updated to display the correct warning telltales as required by FMVSS No. 101 prior to sale.

In summation, Jaguar believes that the described noncompliance of its vehicles to be inconsequential to motor vehicle safety, and that its petition, to exempt from providing recall notification of noncompliance as required by 49 U.S.C. 30118 and remedying the recall noncompliance as required by 49 U.S.C. 30120 should be granted.

Comments: Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 a.m. to 5 p.m. except Federal holidays.

c. Electronically: By logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: September 26, 2011.

Authority: 49 U.S.C. 30118, 30120: delegations of authority at CFR 1.50 and 501.8.

Issued on: August 22, 2011.
Claude H. Harris,
Director, Office of Vehicle Safety Compliance.

[FR Doc. 2011-21951 Filed 8-25-11; 8:45 am]

BILLING CODE 4910-59-P